DEPARTMENT OF DEFENSE

Department of the Air Force

Notice of Extension of Public Comment Period and a Public Hearing Meeting for the Realistic Bomber Initiative Draft Supplemental Environmental Impact Statement

AGENCY: Department of the Air Force, DOD.

ACTION: Notice to advise the public of our intent to provide a 45-day extension of the public comment period and a public hearing meeting for the Realistic Bomber Initiative Draft Supplemental Environmental Impact Statement.

SUMMARY: Pursuant to the National Environmental Policy Act (NEPA) of 1969, as amended (42 U.S.C. 4321, et seq.), the Council on Environmental Quality Regulations for implementing the procedural provisions of NEPA (40 Code of Federal Regulations (CFR) parts 1500-1508), and Air Force's Environmental Impact Analysis Process as implemented by 32 CFR part 989, the United States Air Force (Air Force) is issuing this notice to advise the public of our intent to provide a 45-day extension of the public comment period for the Realistic Bomber Initiative Draft Supplemental Environmental Impact Statement. The original comment period was scheduled to close on 3 Jan 2006 (Federal Register: November 18, 2005 (Volume 70, Number 222)] [Notices] [Page 69967-69968]. The comment period now ends on 17 February 2006.

DATES: A public hearing meeting will also be held during the extended comment period at Lubbock, High School Auditorium, 2004 19th Street, Lubbock Texas, from 1 p.m. to 5 p.m on Saturday 28 January 2006. The meeting will begin with an open house with displays, followed at 2 p.m. by an Air Force presentation on the analysis, and the formal public hearing comment session. The meeting will end by 5 P.M. or when the last comment is recorded.

FOR FURTHER INFORMATION CONTACT: Please submit written comments to Ms. Sheryl Parker, RBTI SEIS Project Manager, HQ ACC/A7ZP, P.O. Box 65399, Langley AFB, VA 23665-5399. For additional information, please contact the 7th Bomb Wing Public Affairs Office, Dyess AFB, at 1-325-696-2861 or 1-877-843-9280.

Lawrence Shade,
Acting, Air Force Federal Register Liaison Officer.

[FR Doc. E5-7832 Filed 12-23-05; 8:45 am]

BILLING CODE 5001-05-P